DEPARTMENT OF TRANSPORTATION

Research and Special Programs Administration

[Docket No. RSPA-2004-18975, Notice No. 04-5]

Safety Advisory: Unauthorized Marking of Compressed Gas Cylinders

AGENCY: Research and Special Programs Administration (RSPA), DOT.

ACTION: Safety advisory notice.

SUMMARY: This is to notify the public that RSPA is investigating the unauthorized marking of high-pressure compressed gas cylinders by New England Ski and Scuba, LLC, 520 Hartford Turnpike, Vernon, CT, 06066. New England Ski and Scuba's approval to requalify DOT specification cylinders was issued by RSPA under the company name, K&B Enterprises. RSPA believes that New England Ski and Scuba marked and certified an undetermined number of high-pressure DOT specification and exemption cylinders as properly tested in accordance with the Hazardous Materials Regulations (HMR), when the cylinders were not hydrostatically retested, or when the cylinders were improperly tested and inspected.

A hydrostatic retest and visual inspection, conducted as prescribed in the HMR, are used to verify the structural integrity of a cylinder. If the hydrostatic retest and visual inspection are not performed in accordance with the HMR, a cylinder with compromised structural integrity may be returned to service when it should be condemned. Extensive property damage, serious personal injury, or death could result from rupture of a cylinder. Cylinders not retested in accordance with the HMR may not be charged or filled with compressed gas or other hazardous material and offered for transportation in commerce.

FOR FURTHER INFORMATION CONTACT: Anthony Lima, Senior Hazardous Materials Enforcement Specialist, Eastern Region, Office of Hazardous Materials Enforcement, Research and Special Programs Administration, U.S. Department of Transportation, 820 Bear Tavern Road, Suite 306, W. Trenton, NJ 08034. Telephone: (609) 989-2252, Fax: (609) 989-2277.

SUPPLEMENTARY INFORMATION: Through its investigation of New England Ski and Scuba, RSPA obtained evidence that the company marked and certified an undetermined number of cylinders as properly tested in accordance with the HMR without conducting proper testing of the cylinders. Therefore, all cylinders marked and certified as requalified by New England Ski and Scuba may pose a safety risk to the public and should be considered unsafe for use in hazardous materials service until retested by a DOT-authorized facility. The cylinder types in question are carbon dioxide fire extinguishers, industrial gas cylinders, medical oxygen cylinders, and Self Contained Underwater Breathing Apparatus (SCUBA) tanks.

New England Ski and Scuba's Retester Identification Number (RIN) is C626. The cylinders in question are stamped with RIN C626 in the following pattern:

Anyone who has a cylinder serviced by New England Ski and Scuba, and has not retested the cylinder since then, should consider the cylinder potentially unsafe and not fill it with a hazardous material unless the cylinder is first properly retested by a DOT-authorized retest facility. Cylinders described in this safety advisory that are filled with an atmospheric gas should be vented or otherwise safely discharged and then taken to a DOT-authorized cylinder retest facility for proper retest. Cylinders described in this safety advisory that are filled with a material other than an atmospheric gas should not be vented, but instead should be safely discharged. Upon discharge, the cylinders should be taken to a DOT-authorized cylinder retest facility for proper retest to determine compliance with the HMR and to ensure their suitability for continuing service. You may obtain a list of authorized cylinder retesters at the following Web site: http://hazmat.dot.gov. Under no circumstance should a cylinder described in this safety advisory be filled, refilled or used for its intended purpose until it is reinspected and retested by a DOT-authorized retest facility.

Issued in Washington, DC on August 27, 2004.
Robert A. McGuire,
Associate Administrator for Hazardous Materials Safety.

[FR Doc. 04-19964 Filed 8-31-04; 8:45 am]

BILLING CODE 4910-60-P